DEPARTMENT OF COMMERCE

Foreign-Trade Zones Board

[Order No. 1267]

Expansion of Foreign-Trade Zone 219, Yuma, AZ

Pursuant to its authority under the Foreign-Trade Zones Act of June 18, 1934, as amended (19 U.S.C. 81a-81u), the Foreign-Trade Zones Board (the Board) adopts the following Order:

Whereas, the Yuma County Airport Authority, Inc., grantee of Foreign-Trade Zone 219, submitted an application to the Board for authority to expand FTZ 219 to include a site at the Yuma Commerce Center (95 acres) in Yuma, Arizona, within the San Luis Customs port of entry (FTZ Docket 32-2002; filed 8/14/02);

Whereas, notice inviting public comment was given in the Federal Register (67 FR 54168. 8/21/02) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 219 is approved, subject to the Act and the Board's regulations, including Section 400.28.

Signed at Washington, DC, this 7th day of February 2003.
Faryar Shirzad,
Assistant Secretary of Commerce for Import Administration, Alternate Chairman, Foreign-Trade Zones Board.

[FR Doc. 03-4584 Filed 2-26-03; 8:45 am]

BILLING CODE 3510-DS-P